DEPARTMENT OF COMMERCE

National Oceanic and Atmospheric Administration

50 CFR Part 665

RIN 0648-BH65

Pacific Island Fisheries; Amendment 9 to the Fishery Ecosystem Plan for Pelagic Fisheries of the Western Pacific; Modifications to the American Samoa Longline Fishery Limited Entry Program

AGENCY: National Marine Fisheries Service (NMFS), National Oceanic and Atmospheric Administration (NOAA), Commerce.

ACTION: Notification of availability of a fishery ecosystem plan amendment; request for comments.

SUMMARY: NMFS announces that the Western Pacific Fishery Management Council (Council) proposes to amend the Fishery Ecosystem Plan for Pelagic Fisheries of the Western Pacific (FEP). If approved, Amendment 9 would reduce regulatory barriers that may be limiting small vessel participation in the American Samoa longline fishery. Specifically, Amendment 9 would consolidate vessel class sizes, modify permit eligibility requirements, and reduce the minimum harvest requirements for small vessels. The Council recommended Amendment 9 to provide for sustained community and indigenous American Samoan participation in the small vessel longline fishery.

DATES: NMFS must receive comments on Amendment 9 by August 30, 2021.

ADDRESSES: You may submit comments on this document, identified by NOAA-NMFS-2018-0023, by either of the following methods:

• Electronic Submission: Submit all electronic comments via the Federal e-Rulemaking Portal. Go to http://www.regulations.gov and enter NOAA-NMFS-2018-0023 in the Search box, click the “Comment” icon, complete the required fields, and enter or attach your comments.

• Mail: Send written comments to Michael D. Tosatto, Regional Administrator, NMFS Pacific Islands Region (PIR), 1845 Wasp Blvd. Bldg. 176, Honolulu, HI 96818.

Instructions: NMFS may not consider comments sent by any other method, to any other address or individual, or received after the end of the comment period. All comments received are a part of the public record, and NMFS will generally post them for public viewing on www.regulations.gov without change. All personal identifying information (e.g., name, address, etc.), confidential business information, or otherwise sensitive information submitted voluntarily by the sender will be publicly accessible. NMFS will accept anonymous comments (enter “N/A” in the required fields if you wish to remain anonymous).

Amendment 9 includes a draft environmental assessment (EA) that analyzes the potential impacts of the proposed measures and alternatives considered. Copies of Amendment 9, including the draft EA and a Regulatory Impact Review (RIR), and other supporting documents, are available at https://www.regulations.gov, or from the Council, 1164 Bishop St., Suite 1400, Honolulu, HI 96813, tel 808-522-8220, www.wpcouncil.org.

FOR FURTHER INFORMATION CONTACT: Kate Taylor, Sustainable Fisheries, NMFS PIR, 808-725-5182.

SUPPLEMENTARY INFORMATION: NMFS and the Council manage the American Samoa longline fishery under the FEP and implementing regulations. The fishery targets primarily albacore, which are sold frozen to the fish processing industry in Pago Pago, American Samoa. During the 1980s and 1990s, the longline fleet was mainly comprised of alia, locally-built catamarans between 24 and 38 ft in length. In the early 2000s, the longline fishery expanded rapidly with the influx of large (≥50 ft) conventional vessels similar to the type used in the Hawaii-based longline fishery, including some vessels from Hawaii.

To manage capacity in the then-rapidly developing fishery, the Council in 2001 (through Amendment 11 to the Fishery Management Plan for Pelagic Fisheries of the Western Pacific, superseded by the FEP) established a limited entry program with vessel size classes and criteria for participation. In 2005, NMFS implemented the limited entry program and issued 60 permits to qualified candidates among four vessel size classes.

Only a few small vessels have been active in the fishery since 2007. Participation by large vessels was somewhat stable from 2001 through 2010, but has declined and remained below 20 active vessels annually. In response, the Council developed Amendment 9 to reduce the programmatic barriers that may be limiting small vessel participation. The purpose of Amendment 9 is to reduce the complexity of the limited entry program and provide for sustained community participation, especially for small vessels. Amendment 9 could allow new entrants to obtain a small vessel permit by removing requirements that previously would have made some new entrants ineligible. If approved, Amendment 9 would do the following:

(a) Replace the four vessel classes with two, where Class A and B vessels would be classified as “small” vessels, and Class C and D vessels would be classified as “large” vessels;

(b) Restrict permit holders to U.S. citizens and nationals, and eliminate the requirement to have documented history of participation to be eligible for a permit, but maintain the priority ranking system based on earliest documented history of fishing participation in vessel class size, if there is competition between two or more applicants for a permit;

(c) Require that permits can only be transferred among U.S. citizens or nationals, and eliminate the requirement for documented participation in the fishery to receive a transferred permit;

(d) Reduce the small vessel minimum harvest requirement to 500 lb (227 kg) of pelagic management unit species within a 3-year period, but maintain the existing 5,000 lb (2,268 kg) harvest requirement for large vessels;

(e) Require that the entire minimum harvest amounts for the respective vessel classes are to be landed in American Samoa within a three-year permit period, but that the minimum harvests not be required to be caught within the U.S. EEZ around American Samoa;

(f) Specify a fixed three-year permit period that is the same as the three-year period to make a minimum harvest requirement; and

(g) Clarify that the minimum harvest period would not restart in the event of a permit transfer. If the minimum harvest amount has not been caught at the time of transfer, the new permit holder would be required to meet the harvest requirement based on the following formula: The product of percentage of time left within the three-year permit period and the minimum harvest amount.

NMFS invites public comments on the proposed action and specifically invites comments that address the impact of this proposed action on cultural fishing in American Samoa. NMFS must receive comments on Amendment 9, including a draft EA and RIR, by August 30, 2021 for consideration in the decision to approve, partially approve, or disapprove the amendment. Concurrent with NMFS's review of the amendment under the Magnuson-Stevens Act procedures, NMFS may publish for public comment a proposed rule in the Federal Register to implement the draft measures described in Amendment 9.

Authority: 16 U.S.C. 1801, et seq.

Dated: June 24, 2021.
Jennifer M. Wallace,
Acting Director, Office of Sustainable Fisheries, National Marine Fisheries Service.

[FR Doc. 2021-13970 Filed 6-29-21; 8:45 am]

BILLING CODE 3510-22-P